DEPARTMENT OF ENERGY

Agency Information Collection Extension

AGENCY: Department of Energy.

ACTION: Submission for Office of Management and Budget (OMB) review; comment request.

SUMMARY: The Department of Energy (DOE) has submitted an information collection package to the OMB for extension under the provisions of the Paperwork Reduction Act of 1995. The package requests a three-year extension of OMB Control Number 1910-0600, entitled, “Industrial Relations.” This information collection package covers information necessary to collection of Human Resource information from major DOE contractors for contract management, administration, and cost control for example, reports of contractor expenditures for employee supplementary compensation such as medical insurance, life insurance, flexible benefit program, retirement and short term disability, overtime hours, holiday hours and other data.

DATES: Comments regarding this collection must be received on or before June 24, 2005. If you anticipate that you will be submitting comments, but find it difficult to do so within the period of time allowed by this notice, please advise the OMB Desk Officer of your intention to make a submission as soon as possible. The Desk Officer may be telephoned at 202-395-4650.

ADDRESSES: Written comments may be sent to: DOE Desk Officer, Office of Information and Regulatory Affairs, Office of Management and Budget, New Executive Office Building, Rm 10102, 735 17th Street, NW., Washington, DC 20503.

Comments should also be addressed to: Sharon A. Evelin, Director, IM-11/Germantown Bldg., U.S. Department of Energy, 1000 Independence Ave. SW., Washington, DC 20585-1290; or by fax at 301-903-9061 or by e-mail at sharon.evelin@hq.doe.gov, and to Stephanie Weakley, U.S. Department of Energy, 1000 Independence Ave. SW., Washington, DC 20585-1615, 202/287-1554, or by fax at 202/287-1656 or by e-mail at stephanie.weakley@hq.doe.gov.

FOR FURTHER INFORMATION CONTACT: The individuals listed in ADDRESSES.

SUPPLEMENTARY INFORMATION: This package contains: (1) OMB No. 1910-0600; (2) Package Title: Industrial Relations; (3) Purpose: This information is required for management oversight for DOE's Facilities Management Contractors and to ensure that the programmatic and administrative management requirements of the contract are managed efficiently and effectively; (4) Estimated Number of Respondents: 307; (5) Estimated Total Burden Hours: 7183; (6) Number of Collections: The package contains 9 information and/or recordkeeping requirements.

Statutory Authority: Department of Energy Organization Act, Pub. L. 95-91, of August 4, 1997.

Issued in Washington, DC, on May 18, 2005.
Sharon Evelin,
Director, Records Management Division, Office of the Chief Information Officer.

[FR Doc. 05-10434 Filed 5-24-05; 8:45 am]

BILLING CODE 6450-01-P